DEPARTMENT OF COMMERCE

International Trade Administration

[C-423-809, C-475-823, C-791-806]

Certain Stainless Steel Plate in Coils From Belgium, Italy and South Africa; Notice of Correction to the Amended Countervailing Duty Orders

AGENCY: Import Administration, International Trade Administration, Department of Commerce.

ACTION: Notice of correction to the amended countervailing duty orders.

EFFECTIVE DATE: March 11, 2003.

FOR FURTHER INFORMATION CONTACT: Andrew Smith at (202) 482-1276 for Belgium and Italy, Eric Greynolds at (202) 482-6071 for South Africa, or Robert James at (202) 482-0649, Antidumping and Countervailing Duty Enforcement, Import Administration, International Trade Administration, U.S. Department of Commerce, 14th Street and Constitution Avenue, NW, Washington, DC 20230.

Background

On March 11, 2003, the Department published in the Federal Register the amended countervailing duty orders on certain stainless steel plate in coils (stainless steel plate) from Belgium, Italy and South Africa. See Amended Countervailing Duty Orders; Certain Stainless Steel Plate in Coils From Belgium, Italy, and South Africa, 68 FR 11524 (Amended Countervailing Duty Orders).

In its amended countervailing duty orders the Department inadvertently failed to convert certain old numbers under the Harmonized Tariff System of the United States, annotated (HTS), to their new HTS numbers in the “Scope of the Orders” section. Due to changes in the HTS numbers, subheadings 7219.12.00.05, 7219.12.00.20, 7219.12.00.25, 7219.12.00.50, 7219.12.00.55, 7219.12.00.65, 7219.12.00.70, and 7219.12.00.80 are replaced by 7219.12.00.06, 7219.12.00.21, 7219.12.00.26, 7219.12.00.51, 7219.12.00.56, 7219.12.00.66, 7219.12.00.71, and 7219.12.00.81. We are now correcting the scope of the orders section to reflect those changes. As we note below and in the Amended Countervailing Duty Orders, the HTS subheadings are provided for convenience and Customs purposes; the written description of the merchandise subject to these orders is dispositive. See “Scope of the Orders” section below.

Scope of the Orders

The product covered by these orders is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of these orders are the following: (1) Plate not in coils, (2) plate that is not annealed or otherwise heat treated and pickled or otherwise descaled, (3) sheet and strip, and (4) flat bars.

The merchandise subject to these orders is currently classifiable in the Harmonized Tariff Schedule of the United States (HTS) at subheadings: 7219.11.00.30, 7219.11.00.60, 7219.12.00.06, 7219.12.00.21, 7219.12.00.26, 7219.12.00.51, 7219.12.00.56, 7219.12.00.66, 7219.12.00.71, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTS subheadings are provided for convenience and Customs purposes, the written description of the merchandise subject to these orders is dispositive.

Amended Countervailing Duty Orders and Suspension of Liquidation

In accordance with section 706(a)(1) of the Tariff Act of 1930, as amended (the Tariff Act), the Department will direct Customs officers to assess, upon further advice by the Department, countervailing duties for each entry of the stainless steel plate in coils, as described in the “Scope of the Orders” section above, from Belgium, Italy and South Africa in an amount based on the net countervailable subsidy rate for the subject merchandise. These countervailing duties will be assessed on all unliquidated entries of stainless steel plate in coils, other than cold-rolled stainless steel plate in coils, from Belgium, Italy and South Africa entered, or withdrawn from warehouse, for consumption on or after September 4, 1998, the date on which the Department published its notices of preliminary determination in the Federal Register (63 FR 47239 (Belgium), 63 FR 47263 (South Africa) and 63 FR 47246 (Italy)).¹

¹ In accordance with section 703(d) of the Tariff Act, suspension of liquidation was lifted for entries made between January 2, 1999 and May 11, 1999, the date of publication of the Countervailing Duty Orders. See Countervailing Duty Orders 64 FR 25288, 25289 (May 11, 1999).

Furthermore, effective March 11, 2003, we will instruct the Customs service to require cash deposits on all entries of cold-rolled stainless steel plate in coils, as well as other stainless steel plate in coils subject to these orders, as a result of the Court of International Trade's December 12, 2002 opinion in Allegheny Ludlum v. United States, No. 99-06-00361, Slip Op. 02-147 (Ct. Int'l Trade, December 12, 2002).

For unreviewed producers, and for “All Others,” the applicable weighted-average margins are those established in the original final determinations. For those producers that have been reviewed the applicable weighted-average margins are those established in the investigation or the most recently completed final results of an antidumping administrative review, as noted below:

Producer/Manufacturer/Exporter | Cash deposit rate (percent)
Belgium:
ALZ, N.V | 1.78% (66 FR 45007)
All Others | 2.00
Italy:
ThyssenKrupp Acciai Speciali Terni SpA (TKAST) | 15.16
All Others | 15.16
South Africa:
Columbus Stainless | 3.95
All Others | 3.95

Customs officers must require, at the same time as importers would normally deposit estimated duties on this merchandise, cash deposits equal to the rates presently in effect. This notice constitutes the amended countervailing duty orders with respect to certain stainless steel plate in coils from Belgium, Italy and South Africa. Interested parties may contact the Department's Central Records Unit, room B-099 of the main Commerce building, for copies of an updated list of countervailing duty orders currently in effect.

These amended orders are published in accordance with section 706(a) of the Tariff Act of 1930, as amended.

Dated: April 17, 2003.
Joseph A. Spetrini,
Acting Assistant Secretary for Import Administration.

[FR Doc. 03-10196 Filed 4-23-03; 8:45 am]

BILLING CODE 3510-DS-P